DEPARTMENT OF JUSTICE

Notice of Lodging of Proposed Consent Decree Under the Clean Air Act

On February 20, 2013, the Department of Justice lodged a proposed Consent Decree with the United States District Court for the Western District of Louisiana in the lawsuit entitled United States v. Westlake Petrochemicals LLC, Civil Action No. 2:13-cv-00364.

This is a civil action against Westlake Petrochemicals LLC, WPT LLC, and Westlake Polymers LLC (collectively “Defendants”) for civil penalties and injunctive relief as a result of alleged violations of the Clean Air Act (“CAA”), as amended, 42 U.S.C. 7401 et seq., and its implementing regulations including the National Emission Standards for Hazardous Air Pollutants (“NESHAPs”) (40 CFR Part 63). This action is based on violations that occurred at petrochemical production units, known as Petro I and Petro II, owned and operated by one or more Defendants and their predecessors-in-interest and located in Sulfur, Louisiana (the “Facilities”). The proposed Consent Decree would resolve the civil claims alleged in the Complaint through March 22, 2007. The proposed Consent Decree includes a certification by Defendants that since March 22, 2007 they have complied at the Facilities with certain specified requirements of the NESHAPs regulations set forth in 40 CFR Part 63, Subpart UU. (§§ 63.1019 to 63.1039). The proposed Consent Decree also requires Defendants to pay a civil penalty in the amount of $500,000.

The publication of this notice opens a period for public comment on the Consent Decree. Comments should be addressed to the Assistant Attorney General, Environment and Natural Resources Division, and should refer to United States v. Westlake Petrochemicals LLC, D.J. Ref. No. 90-5-2-1-09377. All comments must be submitted no later than thirty (30) days after the publication date of this notice. Comments may be submitted either by email or by mail:

To submit comments: | Send them to:
By e-mail | pubcomment-ees.enrd@usdoj.gov.
By mail | Assistant Attorney General U.S. DOJ—ENRD P.O. Box 7611 Washington, DC 20044-7611.

During the public comment period, the Consent Decree may be examined and downloaded at this Justice Department Web site: http://www.usdoj.gov/enrd/Consent_Decrees.html.

We will provide a paper copy of the Consent Decree upon written request and payment of reproduction costs. Please mail your request and payment to: Consent Decree Library, U.S. DOJ—ENRD, P.O. Box 7611, Washington, DC 20044-7611.

Please enclose a check or money order for $8.00 (25 cents per page reproduction cost) payable to the United States Treasury.

Maureen M. Katz,
Assistant Section Chief, Environmental Enforcement Section, Environment and Natural Resources Division.

[FR Doc. 2013-04282 Filed 2-25-13; 8:45 am]

BILLING CODE 4410-15-P